DEPARTMENT OF THE INTERIOR

Office of Surface Mining Reclamation and Enforcement

[Docket ID: OSM-2010-0021; S1D1 SS08011000SX064A000156S180110; S2D2 SS08011000SX064A00015X501520]

Stream Protection Rule; Draft Environmental Impact Statement

AGENCY: Office of Surface Mining Reclamation and Enforcement, Department of the Interior.

ACTION: Notice of Availability; Draft Environmental Impact Statement.

SUMMARY: We, the Office of Surface Mining Reclamation and Enforcement (OSMRE), are announcing that the Draft Environmental Impact Statement (DEIS) for the proposed stream protection rule is available for public review and comment.

DATES: Electronic or written comments: We will accept electronic or written comments on or before September 15, 2015.

ADDRESSES: You may submit comments by any of the following methods:

Federal eRulemaking Portal: http://www.regulations.gov. The Docket ID for the DEIS is OSM-2010-0021. Please follow the online instructions for submitting comments.

Mail/Hand-Delivery/Courier: Office of Surface Mining Reclamation and Enforcement, Administrative Record, Room 252 SIB, 1951 Constitution Avenue NW., Washington, DC 20240. Please include the appropriate Docket ID: OSM-2010-0021 for the DEIS.

You may review the proposed rule, the draft environmental impact statement, and the draft regulatory impact analysis online at www.osmre.gov. You also may review these documents in person at the location listed below and at the addresses listed under SUPPLEMENTARY INFORMATION.

Office of Surface Mining Reclamation and Enforcement, Administrative Record, Room 101 SIB, 1951 Constitution Avenue NW., Washington, DC 20240, 202-208-4264

FOR FURTHER INFORMATION CONTACT: Robin Ferguson, Office of Surface Mining Reclamation and Enforcement, U.S. Department of the Interior, 1951 Constitution Avenue NW., Washington DC 20240. Telephone: 202-208-2802. Email: rferguson@osmre.gov.

SUPPLEMENTARY INFORMATION:

Background

The DEIS evaluates the direct, indirect, and cumulative environmental impacts of the proposed stream protection rule and its alternatives. Significant advances in scientific knowledge and mining and reclamation techniques have occurred in the more than 30 years that have elapsed since the enactment of the Surface Mining Control and Reclamation Act of 1977, 30 U.S.C. 1201 et seq., and the adoption of federal regulations implementing that law. The primary purpose of the proposed stream protection rule is to update our regulations and provide regulatory certainty to industry using these advances in scientific knowledge to minimize the adverse impacts of surface coal mining operations on surface water, groundwater, fish, wildlife, and related environmental values, with particular emphasis on protecting or restoring streams and aquatic ecosystems.

How do I comment on the DEIS?

In accordance with 43 CFR 46.435(a) and 40 CFR 1503.1(a)(4), we invite the public to provide written comments on the DEIS during the 60-day comment period. Please see ADDRESSES and DATES for more information. We will review and consider all comments submitted to www.regulations.gov or to the office listed under ADDRESSES by the close of the comment period (see DATES). We cannot ensure that comments received after the close of the comment period or at a location other than the office and Web site listed under ADDRESSES will be included in the docket for this DEIS or considered in the development of a final EIS.

Please include the Docket ID “OSM-2010-0021” at the beginning of all comments on the DEIS. Your comments should refer to a specific portion of the DEIS (citation to the chapter, section, page, paragraph, and sentence to which your comment applies would be helpful), be confined to issues pertinent to the DEIS, explain the reason for any recommended change or objection, and include supporting data when appropriate. Before including your address, phone number, or other personally identifiable information in your comment, you should be aware that your entire comment—including your personally identifiable information—may be made publicly available at any time. While you may ask us in your comment to withhold your personally identifiable information from public review, we cannot guarantee that we will be able to do so.

You may review the proposed rule, the draft environmental impact statement, and the draft regulatory impact analysis online at the Web sites listed in ADDRESSES or in person at the headquarters office location listed in ADDRESSES and at the following OSMRE regional, field, and area office locations:

Appalachian Regional Office, Three Parkway Center, Pittsburgh, Pennsylvania 15220, Phone: (412) 937-2828

Mid-Continent Regional Office, William L. Beatty Federal Building, 501 Belle Street, Room 216, Alton, Illinois 62002, Phone: (618) 463-6460

Western Regional Office, 1999 Broadway, Suite 3320, Denver, Colorado 80201, Phone: (303) 844-1401

Charleston Field Office, 1027 Virginia Street, East, Charleston, West Virginia 25301, Phone: (304) 347-7158

Knoxville Field Office, 710 Locust Street, 2nd floor, Knoxville, Tennessee 37902, Phone: (865) 545-4103

Lexington Field Office, 2675 Regency Road, Lexington, Kentucky 40503, Phone: (859) 260-3900

Beckley Area Office, 313 Harper Park Drive, Beckley, West Virginia 25801, Phone: (304) 255-5265

Harrisburg Area Office, 215 Limekiln Road, New Cumberland, Pennsylvania 17070, Phone: (717) 730-6985

Albuquerque Area Office, 100 Sun Avenue NE., Pan American Building, Suite 330, Albuquerque, New Mexico 87109, Phone: (505) 761-8989

Casper Area Office, Dick Cheney Federal Building, 150 East B Street, Casper, Wyoming 82601, Phone: (307) 261-6550

Birmingham Field Office, 135 Gemini Circle, Suite 215, Homewood, Alabama 35209, Phone: (205) 290-7282

Tulsa Field Office, 1645 South 101st East Avenue, Suite 145, Tulsa, Oklahoma 74128, Phone: (918) 581-6430

In addition, a limited number of CD copies of the DEIS are available upon request. You may obtain a CD by contacting the person identified in FOR FURTHER INFORMATION CONTACT.

If you would like to be placed on the mailing list to receive future information on the EIS, please contact the person listed under FOR FURTHER INFORMATION CONTACT.

Public Hearings

We will hold a public hearing on the proposed rule and the draft environmental impact statement in the following cities: Charleston, West Virginia; Denver, Colorado; Lexington, Kentucky; Pittsburgh, Pennsylvania; and St. Louis, Missouri. OSMRE representatives will provide information on the proposed rule at each hearing. A court reporter will be available at each hearing to record your comments if you wish to provide input in this fashion. The docket for this rulemaking will include a written summary of each hearing and the transcript provided by the court reporter.

We will announce arrangements, specific locations, dates, and times for each hearing in a Federal Register notice published at least 7 days before each hearing. If you are a disabled individual who needs reasonable accommodation to attend a public hearing, please contact the person listed under FOR FURTHER INFORMATION CONTACT after we publish notice of the specific hearing locations and dates.

Dated: July 7, 2015.
Sterling Rideout,
Assistant Director, Program Support.

Authority: 40 CFR 1506.6, 40 CFR 1506.1.

[FR Doc. 2015-17307 Filed 7-16-15; 8:45 am]

BILLING CODE 4310-05-P